DEPARTMENT OF ENERGY

Federal Energy Regulatory Commission

Combined Notice of Filings #1

Take notice that the Commission received the following electric corporate filings:

Docket Numbers: EC17-39-000.

Applicants: Agera Energy LLC, energy.me midwest llc, Aequitas Energy, Inc.

Description: Joint Application for Authorization Under Section 203 of the Federal Power Act and Request for Confidential Treatment and Request for Expedited Review of Agera Energy LLC.

Filed Date: 11/23/16.

Accession Number: 20161123-5197.

Comments Due: 5 p.m. ET 12/14/16.

Take notice that the Commission received the following exempt wholesale generator filings:

Docket Numbers: EG17-33-000.

Applicants: Footprint Power Salem Harbor Development LP.

Description: Footprint Power Salem Harbor Development LP submits Notice of Self-Certification of Exempt Wholesale Generator Status.

Filed Date: 11/28/16.

Accession Number: 20161128-5119.

Comments Due: 5 p.m. ET 12/19/16.

Take notice that the Commission received the following electric rate filings:

Docket Numbers: ER10-2331-060; ER10-2319-051; ER10-2317-051; ER13-1351-033; ER10-2330-058.

Applicants: J.P. Morgan Ventures Energy Corporation, BE CA LLC, BE Alabama LLC, Florida Power Development LLC, Utility Contract Funding, L.L.C.

Description: Notice of Non-Material Change in Status of the J.P. Morgan Sellers.

Filed Date: 11/25/16.

Accession Number: 20161125-5044.

Comments Due: 5 p.m. ET 12/16./16.

Docket Numbers: ER14-649-005.

Applicants: Midcontinent Independent System Operator, Inc., Entergy Services, Inc.

Description: Compliance filing: 2016-11-28_Compliance filing to address 9/28/2016 Order on Entergy Settlement to be effective 12/19/2013.

Filed Date: 11/28/16.

Accession Number: 20161128-5194.

Comments Due: 5 p.m. ET 12/19/16.

Docket Numbers: ER16-1956-001.

Applicants: Western Antelope Dry Ranch LLC.

Description: Compliance filing: Western Antelope Dry Ranch LLC MBR Tariff to be effective 6/18/2016.

Filed Date: 11/28/16.

Accession Number: 20161128-5102.

Comments Due: 5 p.m. ET 12/19/16.

Docket Numbers: ER17-418-000.

Applicants: Seward Generation, LLC.

Description: Compliance filing: Reactive Rate Schedule eTariff Compliance Filing to be effective 11/29/2016.

Filed Date: 11/28/16.

Accession Number: 20161128-5207.

Comments Due: 5 p.m. ET 12/19/16.

Docket Numbers: ER17-419-000.

Applicants: American Electric Power Service Corporate, PJM Interconnection, L.L.C.

Description: § 205(d) Rate Filing: Transource PA and MD submit revisions to OATT to add Attachments H-29 and H-30 to be effective 2/1/2017.

Filed Date: 11/28/16.

Accession Number: 20161128-5221.

Comments Due: 5 p.m. ET 12/19/16.

Take notice that the Commission received the following qualifying facility filings:

Docket Numbers: QF17-318-000.

Applicants: Fresh Air Energy II, LLC.

Description: Form 556 of Fresh Air Energy II, LLC [Shoshoni PV1].

Filed Date: 11/28/16.

Accession Number: 20161128-5065.

Comments Due: 5 p.m. ET 11/28/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 28, 2016.
Nathaniel J. Davis, Sr.,
Deputy Secretary.

[FR Doc. 2016-28938 Filed 12-1-16; 8:45 am]

BILLING CODE 6717-01-P